FEDERAL COMMUNICATIONS COMMISSION

Notice of Public Information Collection(s) Being Reviewed by the Federal Communications Commission

April 23, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 30, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to Leslie.Smith@fcc.gov.

FOR FURTHER INFORMATION CONTACT: For additional information or copies of the information collection(s) contact Les Smith at 202-418-0217 or via the Internet at Leslie.Smith@fcc.gov.

SUPPLEMENTARY INFORMATION: OMB Control Number: 3060-0716.

Title: Blanketing Interference.

From Number: N/A.

Type of Review: Extension of currently approved collection.

Respondents: Individuals or households; business or other for-profit entities; not-for-profit institutions.

Number of Respondents: 21,000.

Estimated Time per Response: 1 to 2 hours.

Frequency of Response: Third party disclosure.

Total Annual Burden: 41,000 hours.

Total Annual Costs: None.

Needs and Uses: This rulemaking proceeding proposed to provide detailed clarification of the AM, FM, and TV licensee's responsibilities in resolving/eliminating blanketing interference caused by their individual stations. Under 47 CFR 72.88 (AM), 73.318 (FM), and 73.685(d) (TV), the licensee is financially responsible for resolving complaints of interference within one year of program test authority when certain conditions are met. After the first year, a licensee is only required to provide technical assistance to determine the cause of the interference. This NPRM proposed to consolidate all blanketing interference rules under a new section 47 CFR section 73.1630, “Blanketing Interference.” This new rule was designed to facilitate the resolution of broadcast interference problems and set forth all responsibilities of the licensee/permittee of a broadcast station. To date, final rules have not been adopted.

OMB Control Number: 3060-0110.

Title: Application for Renewal of Broadcast Station License, FCC Form 303-S.

Type of Review: Revision of a currently approved collection.

Form Number: FCC 303-S.

Respondents: Business or other for-profit entities; not-for-profit institutions.

Number of Respondents: 3,217.

Estimated Time per Response: 40 mins. to 9.75 hrs.

Frequency of Response: Eight-year reporting requirement; third party disclosure.

Total Annual Burden: 5,271 hours.

Total Annual Cost: $1,567,401.

Needs and Uses: FCC Form 303-S is used in applying for renewal of a license for a commercial or non-commercial AM, FM, or TV broadcast station and FM translator, TV translator, or low power TV (LPTV), or low power FM broadcast station. It can also be used to seek the joint renewal of licenses for an FM or TV translator station and its co-owed primary FM, TV, or LPTV station. The FCC has recently made two new statutory changes—47 U.S.C. 312(g), which provides for automatic expiration of a license if the licensee does not broadcast (“goes silent”) for twelve months; and 47 U.S.C. section 309(k), which affects renewal standards and FCC violations. The Commission is also revising Form 303-S to make it a simpler and clearer form that shifts to a convenient certification-based approach to applicants. Furthermore, the Commission is changing this form in line with the release on November 20, 2002 of the Second Report and Order and FNPRM, Review of the Commission's Broadcast and Cable Equal Employment Opportunities Rules and Policies, MM Docket No. 98-204, FCC 02-303.

Federal Communications Commission.
Marlene H. Dortch,
Secretary.

[FR Doc. 03-10519 Filed 4-28-03; 8:45 am]

BILLING CODE 6712-01-P